POSTAL REGULATORY COMMISSION

[Docket No. MC2008-5; Order No. 90]

Express Mail

AGENCY: Postal Regulatory Commission.

ACTION: Notice.

SUMMARY: This document announces the Postal Service's filing of a notice concerning the addition of an Express Mail contract to the competitive product list. It also announces a related Commission review.

DATES: Comments due July 31, 2008.

ADDRESSES: Submit documents electronically via the Commission's Filing Online system at http://www.prc.gov.

FOR FURTHER INFORMATION CONTACT: Stephen L. Sharfman, General Counsel, 202-789-6820 and stephen.sharfman@prc.gov.

SUPPLEMENTARY INFORMATION: On July 21, 2008, the Postal Service filed a request pursuant to 39 U.S.C. 3642 and 39 CFR 3020.30 to modify the Mail Classification Schedule by adding Express Mail Contract 1 to the competitive product list. The Postal Service asserts that Express Mail Contract 1 is a competitive product “not of general applicability” within the meaning of 39 U.S.C. 3632(b)(3).¹ A redacted version of the Governors' Decision establishing the price and classification and a certification of the Governors' vote is included as Attachment A to the filing. The requested changes in the Mail Classification Schedule product list are included in the filing as Attachment B with the new product shown in brackets.² The statement of supporting justification required by 39 CFR 3020.32 is included as Attachment C to the filing.

¹ Request of the United States Postal Service to Add Express Mail Contract to Competitive Product List and Notice of Establishment of Rates and Class Not of General Applicability, July 21, 2008 (Request).

² The draft Mail Classification Schedule remains under review. The Commission anticipates providing interested persons an opportunity to comment on the draft Mail Classification Schedule in the near future.

In the same July 21, 2008 filing, the Postal Service gives notice, pursuant to 39 U.S.C. 3632(b)(3) and 39 CFR 3015.5, that the Governors have established prices and classifications not of general applicability for Express Mail Contract 1. Request at 2.

In support of its Request, the Postal Service has also filed materials under seal, including an unredacted version of an explanation and justification in the Governors' Decision and an unredacted analysis. Also filed under seal are the cost and revenue data and the certification of compliance with 39 U.S.C. 3633(a)(1) and (3). The Postal Service asserts “that the contract, related financial information, the customer's name and the portions of the Governors' Decision and accompanying analysis that provides prices, terms, and conditions should remain confidential.” Id.

In Order No. 43, the Commission issued regulations establishing a modern system of rate regulation, including a list of competitive products. PRC Order No. 43, October 29, 2007, paras. 3061, 4013. Among other things, the Commission determined that each negotiated service agreement would initially be classified as a separate product. The specific Express Mail agreement filed in this docket will be classified as a new product.

As noted above, the Postal Service filing in this docket was made pursuant to rule 3015.5 and rule 3020.30. As a consequence, the Commission will review the filing under both rule 3015 and part 3020, subpart B.

Interested persons may express views and offer comments on whether the planned changes are consistent with the policies of 39 U.S.C. 3632, 3633 and/or 3642. Comments are due no later than July 31, 2008.

Pursuant to 39 U.S.C. 505, Paul L. Harrington is appointed to serve as officer of the Commission (Public Representative) to represent the interests of the general public in the captioned docket.

It is Ordered:

1. Comments on issues in this proceeding are due no later than July 31, 2008.

2. The Commission appoints Paul L. Harrington as Public Representative to represent the interests of the general public in this proceeding.

3. The Secretary shall arrange for publication of this Order in the Federal Register.

By the Commission.
Issued July 23, 2008.
Steven W. Williams,
Secretary.

[FR Doc. E8-17301 Filed 7-28-08; 8:45 am]

BILLING CODE 7710-FW-P